DEPARTMENT OF DEFENSE

Office of the Secretary

[Docket ID: DoD-2020-OS-0013]

Manual for Courts-Martial; Proposed Amendments

AGENCY: Joint Service Committee on Military Justice (JSC), Department of Defense (DoD).

ACTION: Notice of availability of proposed amendments to the Manual for Courts-Martial, United States (2019 ed.) and notice of public meeting.

SUMMARY: The DoD requests comments on proposed changes to the Manual for Courts-Martial, United States (2019 ed.) (MCM). The proposed changes implement certain provisions of the National Defense Authorization Acts for Fiscal Years 2018, 2019, and 2020 and concern (1) the rules of procedure and evidence applicable in trials by courts-martial; and (2) the punitive articles of the Uniform Code of Military Justice. The approval authority for these changes is the President. These proposed changes have not been coordinated within the DoD under DoD Directive 5500.01, “Preparing, Processing and Coordinating Legislation, Executive Orders, Proclamations, Views Letters, and Testimony,” June 15, 2007, and do not constitute the official position of the DoD, the Military Departments, or any other Government agency.

DATES: Comments on the proposed changes must be received no later than April 13, 2020. A public meeting for comments will be held on February 19, 2020 at 10:00 a.m. in the United States Court of Appeals for the Armed Forces building, 450 E Street NW, Washington DC 20442-0001.

ADDRESSES: You may submit comments, identified by docket number and title, by any of the following methods:

• Federal eRulemaking Portal: http://www.regulations.gov. Follow the instructions for submitting comments.

• Mail: Department of Defense, Office of the Chief Management Officer, Directorate for Oversight and Compliance, 4800 Mark Center Drive, Mailbox #24, Alexandria, VA 22350-1700.

Instructions: All submissions received must include the agency name and docket number for this Federal Register document. The general policy for comments and other submissions from members of the public is to make these submissions available for public viewing on the internet at http://www.regulations.gov as they are received without change, including any personal identifiers or contact information.

FOR FURTHER INFORMATION CONTACT: Lieutenant Colonel Adam S. Kazin, U.S. Army, Executive Secretary, JSC, (571) 256-8132, adam.s.kazin.mil@mail.mil. The JSC website is located at http://jsc.defense.gov.

SUPPLEMENTARY INFORMATION:

The full text of the 2019 MCM is available electronically at https://jsc.defense.gov/Military-Law/Current-Publications-and-Updates/.

This notice is provided in accordance with DoD Instruction 5500.17, “Role and Responsibilities of the Joint Service Committee on Military Justice (JSC),” February 21, 2018 (available at https://www.esd.whs.mil/Portals/54/Documents/DD/issuances/dodi/550017_5C.PDF?ver=2018-02-21-074422-370).

The JSC invites members of the public to comment on the proposed changes; such comments should address specific recommended changes and provide supporting rationale.

This notice also sets forth the date, time, and location for a public meeting of the JSC to discuss the proposed changes.

This notice is intended only to improve the internal management of the Federal Government. It is not intended to create any right or benefit, substantive or procedural, enforceable at law by any party against the United States, its agencies, its officers, or any person.

Dated: February 6, 2020.
Aaron T. Siegel,
Alternate OSD Federal Register Liaison Officer, Department of Defense.

BILLING CODE 5001-06-P

[FR Doc. 2020-02685 Filed 2-10-20; 8:45 am]

BILLING CODE 5001-06-C